DEPARTMENT OF EDUCATION

[Docket No.: ED-2025-SCC-0011]

Agency Information Collection Activities; Comment Request; 2026-2027 Free Application for Federal Student Aid (FAFSA®)

AGENCY: Federal Student Aid (FSA), Department of Education (ED).

ACTION: Notice.

SUMMARY: In accordance with the Paperwork Reduction Act of 1995, ED is proposing a revision of the existing information collection.

DATES: Interested persons are invited to submit comments on or before April 7, 2025.

ADDRESSES: To access and review all the documents related to the information collection listed in this notice, please use http://www.regulations.gov by searching the Docket ID number ED-2025-SCC-0011. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave. SW, LBJ, Room 4C210, Washington, DC 20202-1200.

FOR FURTHER INFORMATION CONTACT: For specific questions related to collection activities, please contact the FAFSA Product Team at fsa_fafsa_team@ed.gov or Beth Grebeldinger, (202) 570-8414.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: 2026-2027 Free Application for Federal Student Aid.

OMB Control Number: 1845-0001.

Type of Review: Revision of a currently approved ICR.

Respondents/Affected Public: Individuals or Households.

Total Estimated Number of Annual Responses: 31,791,647.

Total Estimated Number of Annual Burden Hours: 20,412,753.

Abstract: Section 483, of the Higher Education Act of 1965, as amended (HEA), mandates that the Secretary of Education “. . . shall produce, distribute, and process free of charge common financial reporting forms as described in this subsection to be used for application and reapplication to determine the need and eligibility of a student for financial assistance. . .”.

The determination of need and eligibility are for the following Title IV, HEA, federal student financial assistance programs: the Federal Pell Grant Program; the Campus-Based programs (Federal Supplemental Educational Opportunity Grant (FSEOG) and Federal Work-Study (FWS)); the William D. Ford Federal Direct Loan (Direct Loan) Program; the Teacher Education Assistance for College and Higher Education (TEACH) Grant; the Children of Fallen Heroes Scholarship; and the Iraq and Afghanistan Service Grant.

Federal Student Aid (FSA), an office of the U.S. Department of Education, subsequently developed an application process to collect and process the data necessary to determine a student's eligibility to receive Title IV, HEA program assistance. The application process involves an applicant's submission of the Free Application for Federal Student Aid (FAFSA®). After submission and processing of the FAFSA form, an applicant receives a FAFSA Submission Summary, which is a summary of the processed data they submitted on the FAFSA form. The applicant reviews the FAFSA Submission Summary, and, if necessary, will make corrections or updates to their submitted FAFSA data. Institutions of higher education listed by the applicant on the FAFSA form also receive a summary of processed data submitted on the FAFSA form which is called the Institutional Student Information Record (ISIR).

ED and FSA seek OMB approval of all application components as a single “collection of information.” The aggregate burden will be accounted for under OMB Control Number 1845-0001. The specific application components, descriptions, and submission methods for each are listed in Table 1.

Table 1—Federal Student Aid Application Components
Component | Description | Submission method
Initial Submission of FAFSA form
fafsa.gov | Any applicant with a Federal Student Aid ID (FSA ID) can complete the electronic version of the FAFSA form | Submitted by the applicant.
Printed FAFSA form | The printed version of the FAFSA PDF for applicants who are unable to access the internet or complete the form using fafsa.gov | Mailed by the applicant.
Correcting and Reviewing Submitted FAFSA information
fafsa.gov—Corrections | Any applicant with an FSA ID—regardless of how they originally applied—may make corrections to their own data. Note that no user will be able to make corrections to any federal tax information (FTI) that was obtained from the IRS | Submitted by the applicant.
Electronic Other—Corrections | With the applicant's permission, corrections can be made by an FAA (Financial Aid Administrator) using the Electronic Data Exchange (EDE) | The FAA may be using their mainframe computer or software to facilitate the EDE process.
Paper FAFSA Submission Summary | The paper summary is mailed to paper applicants who did not provide an email address. Applicants can write corrections directly on the paper FAFSA Submission Summary and mail for processing. Note that users for whom federal tax information (FTI) was obtained from the IRS will not be able to make corrections to that data | Mailed by the applicant.
FAFSA Partner Portal (FPP)—Corrections | An institution can use FPP to correct the FAFSA form | Submitted by an FAA on behalf of an applicant.
Internal Department Corrections | The Department will submit an applicant's record for system-generated corrections to the FAFSA Processing System. There is no burden to the applicants under this correction type as these are system-based corrections | These corrections are system-generated.
FAFSA Submission Summary—electronic | The electronic FAFSA Submission Summary is an online version of the FAFSA Submission Summary that is available on fafsa.gov to all applicants. Notification for the FAFSA Submission Summary is sent to students who applied electronically or by paper and provided a valid email address. These notifications are sent by email and include a secure hyperlink that takes the user to the fafsa.gov site | Cannot be submitted for processing.

This information collection also documents an estimate of the annual public burden as it relates to the application process for federal student aid. The Applicant Burden Model (ABM) measures applicant burden through an assessment of the activities each applicant conducts in conjunction with other applicant characteristics and, in terms of burden, the average applicant's experience. Key determinants of the ABM include:

• The total number of applicants that will potentially apply for federal student aid;

• How the applicant chooses to complete and submit the FAFSA form (e.g., by paper or electronically);

• How the applicant chooses to submit any corrections and/or updates (e.g., the paper FAFSA Submission Summary or electronically);

• The type of FAFSA Submission Summary document the applicant receives (paper or electronic);

• The formula applied to determine the applicant's student aid index (SAI); and

• The average amount of time involved in preparing to complete the application.

The ABM is largely driven by the number of potential applicants for the application cycle. The total application projection for 2026-2027 is based on the projected total enrollment into post-secondary education for Fall 2026. The ABM is also based on the application options available to students and parents. ED accounts for each application component based on analytical tools, survey information and other ED data sources.

For 2026-2027, ED is reporting a net burden decrease of 2,004,707 hours.

Dated: January 30, 2025.
Kun Mullan,
PRA Coordinator, Strategic Collections and Clearance, Governance and Strategy Division, Office of Chief Data Officer, Office of Planning, Evaluation and Policy Development.

[FR Doc. 2025-02191 Filed 2-3-25; 8:45 am]

BILLING CODE 4000-01-P